DEPARTMENT OF COMMERCE

National Oceanic and Atmospheric Administration

Proposed Information Collection; Comment Request; California Central Valley Angler Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 10, 2014.

ADDRESSES: Direct all written comments to Jennifer Jessup, Departmental Paperwork Clearance Office, Department of Commerce, Room 6616, 14th and Constitution Avenue NW., Washington, DC 20230 (or via the Internet at JJessup@doc.gov.

FOR FURTHER INFORMATION CONTACT: Requests for additional information or copies of the information collection instrument and instructions should be directed to Cindy Thomson, (831) 420-3911 or Cindy.Thomson@noaa.gov.

SUPPLEMENTARY INFORMATION:

I. Abstract

The National Marine Fisheries Service (NMFS) plans to collect data to increase the agency's understanding of the fishing patterns, preferences, and expenditures of anglers who fish in the rivers of California's Central Valley. NMFS has engaged in major habitat restoration in the Central Valley to promote recovery of three ESA-listed salmonids (Sacramento River winter Chinook, Central Valley spring Chinook, Central Valley steelhead). The survey is intended to estimate the economic impact of the Central Valley recreational fishery and potential recreational benefits associated with habitat restoration such as improved fish passage. Information to be collected pertains to anglers' recreational fishing patterns, expenditures and demographics, and factors affecting trip frequency and location (e.g., travel distance, amenities, landscape features as well as quality of fishing). The data collected will provide NMFS, as well as state agency partners such as the California Department of Fish and Wildlife, with information useful for understanding the economic importance of Central Valley fisheries and potential recreational benefits associated with salmonid habitat restoration.

II. Method of Collection

A random sample of recreational anglers who fish on Central Valley rivers will be asked to complete a voluntary mail-based survey questionnaire.

III. Data

OMB Control Number: None.

Form Number: None.

Type of Review: Regular submission (request for a new information collection).

Affected Public: Individuals or households.

Estimated Number of Respondents: 1,000.

Estimated Time per Response: 25 minutes.

Estimated Total Annual Burden Hours: 417.

Estimated Total Annual Cost to Public: $0 in recordkeeping/reporting costs.

IV. Request for Comments

Comment are invited regarding: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 5, 2013.
Gwellnar Banks,
Management Analyst, Office of the Chief Information Officer.

[FR Doc. 2013-29459 Filed 12-10-13; 8:45 am]

BILLING CODE 3510-22-P